DEPARTMENT OF DEFENSE

Office of the Secretary

[Docket ID: DoD-2022-OS-0113]

Submission for OMB Review; Comment Request

AGENCY: Office of the Under Secretary of Defense for Personnel and Readiness (OUSD (P&R)), Department of Defense (DoD).

ACTION: 30-Day information collection notice.

SUMMARY: The DoD has submitted to the Office of Management and Budget (OMB) for clearance the following proposal for collection of information under the provisions of the Paperwork Reduction Act.

DATES: Consideration will be given to all comments received by February 18, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Evaluation of the Enhanced, Assess, Acknowledge, Act Sexual Assault Resistance Training submitted under “DoD-wide Data Collection and Analysis for the Department of Defense Qualitative and Quantitative Data Collection in Support of the Independent Review Commission on Sexual Assault Recommendations”; OMB Control Number 0704-0644.

Type of Request: New.

Baseline and Follow-Up Survey

Number of Respondents: 1,200.

Responses per Respondent: 2.

Annual Responses: 2,400.

Average Burden per Response: 15 minutes.

Annual Burden Hours: 600.

EAAA Training Feedback Forms

Number of Respondents: 480.

Responses per Respondent: 1.

Annual Responses: 480.

Average Burden per Response: 5 minutes.

Annual Burden Hours: 40.

Total Submission Burden

Total Number of Responses: 1,680.

Total Number of Annual Responses: 2,880.

Total Respondent Burden Hours: 640.

Needs and Uses: The Independent Review Commission on Sexual Assault in the Military recommended that the Department develop a “state-of-the-art DoD prevention research capability” to better understand and develop prevention approaches for sexual harassment, sexual assault, and other forms of violence. The information collection is necessary to understand whether the Enhanced, Assess, Acknowledge, Act Sexual Assault Resistance Training can be implemented with fidelity in the military as a primary prevention activity and whether it will produce beneficial outcomes. This information will help support the development of evidence-based approaches for prevention.

Affected Public: Individuals or households.

Frequency: On occasion.

Respondent's Obligation: Voluntary.

DoD Clearance Officer: Mr. Reginald Lucas.

Dated: January 13, 2025.
Stephanie J. Bost,
Alternate OSD Federal Register Liaison Officer, Department of Defense.

[FR Doc. 2025-01134 Filed 1-16-25; 8:45 am]

BILLING CODE 6001-FR-P